DEPARTMENT OF COMMERCE

International Trade Administration

[A-552-801]

Certain Frozen Fish Fillets From the Socialist Republic of Vietnam Administrative Review: Notice of Partial Rescission; 2023-2024

AGENCY: Enforcement and Compliance, International Trade Administration, Department of Commerce.

SUMMARY: On January 24, 2025, the U.S. Department of Commerce (Commerce) published a partial revocation of Vinh Hoan Corporation (Vinh Hoan) from the antidumping duty (AD) order on certain frozen fish fillets (fish fillets) from the Socialist Republic of Vietnam (Vietnam). As a result of this partial revocation, Commerce is rescinding the review with respect to entries that were produced and exported by Vinh Hoan.

DATES: Applicable February 11, 2025.

FOR FURTHER INFORMATION CONTACT: Javier Barrientos, AD/CVD Operations, Office V, Enforcement and Compliance, International Trade Administration, U.S. Department of Commerce, 1401 Constitution Avenue NW, Washington, DC 20230; telephone: (202) 482-2243.

SUPPLEMENTARY INFORMATION:

Background

On September 20, 2024, Commerce initiated a review of the AD order on fish fillets from Vietnam ¹ with respect to Vinh Hoan ² for the period of review (POR) August 1, 2023, through July 31, 2024.³ On January 24, 2025, Commerce published its revocation of the Order with respect to Vinh Hoan as an exporter and producer of subject merchandise, effective August 1, 2021.⁴ Thus, Commerce is rescinding the review with respect to subject merchandise produced and exported by Vinh Hoan because there is no further basis for conducting an administrative review of the Order for the POR with respect to such merchandise. Consistent with Vinh Hoan's revocation, Commerce will continue to review entries where Vinh Hoan was the exporter but not the producer of subject merchandise or where Vinh Hoan was the producer but not the exporter of subject merchandise to the extent the relevant exporter is subject to our ongoing review, as applicable.

¹ See Notice of Antidumping Duty Order: Certain Frozen Fish Fillets from the Socialist Republic of Vietnam, 68 FR 47909 (August 12, 2003) (Order).

² The Vinh Hoan Corporation is a collapsed entity consisting of Vinh Hoan Corporation, Van Duc Food Export Joint Stock Company, Van Duc Tien Giang Food Export Company, Thanh Binh Dong Thap One Member Company Limited, and Vinh Phuoc Food Company Limited. See Certain Frozen Fish Fillets from the Socialist Republic of Vietnam: Final Results of Antidumping Duty Administrative Review and Final Determination of No Shipments; 2018-2019, 86 FR 36102 (July 8, 2021), and accompanying Issues and Decision Memorandum at Comment 8.

³ See Initiation of Antidumping and Countervailing Duty Administrative Reviews, 89 FR 77079, 77084 (September 20, 2024).

⁴ See Certain Frozen Fish Fillets from the Socialist Republic of Vietnam: Notice of Partial Revocation of the Antidumping Duty Order, 90 FR 8120 (January 24, 2025) (Revocation Notice).

In accordance with the Revocation Notice, Commerce has instructed U.S. Customs and Border Protection to liquidate unliquidated entries of certain frozen fish fillets from Vietnam produced and exported by Vinh Hoan which were entered, or withdrawn from warehouse, for consumption on or after August 1, 2021, without regard to antidumping duties.⁵

⁵ Id.

Notification to Interested Parties

This notice is issued and published in accordance with 19 CFR 351.213(d)(4).

Dated: February 5, 2025.
Scot Fullerton,
Acting Deputy Assistant Secretary for Antidumping and Countervailing Duty Operations.

[FR Doc. 2025-02483 Filed 2-10-25; 8:45 am]

BILLING CODE 3510-DS-P